DEPARTMENT OF THE TREASURY

Financial Management Service

Proposed Collection; Comment Request

ACTION: Notice and Request for Comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A). Currently, the Financial Management Service (FMS) within the Department of the Treasury is soliciting comments concerning an Electronic Funds Transfer (EFT) Survey of Federal Benefit Recipients. The Federal Reserve Bank (FRB) of St. Louis, on behalf of FMS/Treasury, is conducting this EFT Survey in support of FMS' on-going initiatives to increase the use of EFT for Federal payments. The FRB of St. Louis and its contractor, Wirthlin Worldwide, will conduct this study of Social Security Title II and Supplemental Security Income (SSI) benefit payment recipients to identify barriers to significant increases in EFT for benefit payments.

DATES: Written comments should be received on or before September 2, 2003 to be assured of consideration.

ADDRESSES: Direct all written comments to the U.S. Department of the Treasury, Financial Management Service, Michael Dressler, 401 14th St., SW., Room 426B, Washington, DC 20227, (202) 874-7082; e-mail address: eftsurvey@fms.treas. gov

FOR FURTHER INFORMATION CONTACT: Requests for additional information or copies of the form(s) and instructions should be directed tot the U.S. Department of the Treasury, Financial Management Service, Eleanor Kelly, 401 14th St., SW., Room 314, Washington, DC 20227, (202) 874-6838, e-mail address: eleanor.kelly@fms.treas.gov

SUPPLEMENTARY INFORMATION: Title: Electronic Funds Transfer (EFT) Study of Federal Benefit Recipients.

Regulation Project Number: Public Law 104-134, Debt Collection Improvement Act of 1996.

Current Actions: The legislative language accompanying Public Law 104-134, The Debt Collection Improvement Act of 1996, direct the disbursing official (the Secretary of the Treasury) “to study the characteristics of those who currently do not have Direct Deposit and determine how best to increase usage among all groups.” 142 Cong. Rec. H4091 (daily ed. April 25, 1996). The Federal Reserve Bank (FRB) of St. Louis and its contractor, Wirthlin Worldwide Communications, on behalf of FMS/Treasury, plan to conduct five phases of a study that includes: (1) A mail survey with Federal benefit check recipients, and (2) a follow-up postcard survey to the non-respondent mail survey recipients; (3) a telephone survey with Federal benefit recipients who use Direct Deposit; (4) an incidence screen (postcard) survey of unbanked Federal benefit recipients; and, (5) a pilot survey in one location of indigent benefit check recipients. The mail survey phase of the study will provide quantitative research information from approximately 2,000 Federal benefit check recipients. The telephone survey phase of the study will provide research information from approximately 200 Federal benefit recipients who use Direct Deposit. The postcard survey will provide research information from approximately 200 unbanked benefit check recipients and the pilot survey will provide research information from approximately 15 indigent benefit check recipients. FMS, the FRB of St. Louis and its contractor estimated that the mail survey questions will take approximately 30 minutes for response; the follow-up non-response postcard survey will take approximately 10 minutes for response; the telephone survey questions will be asked in approximately a 25-minute telephone call with each respondent; the unbanked postcard survey will take approximately 5 minutes for response; and, the pilot survey of indigent benefit check recipients will take approximately 60 minutes for each respondent. The results of the study will be used to develop a marketing and communications plan that will serve as the basis for a nationwide multi-media EFT campaign. The results of the study also will provide information that will guide the development of potential new electronic payment mechanisms and possible modifications to existing EFT products, including Direct Deposit and the Electronic Transfer Account (ETA).

Type of Review: New.

Affected Public: Individuals or households.

Estimated Number of Respondents: 2,000 mail survey, 100 non-respondent survey, 200 telephone survey, 200 unbanked postcard survey, 15 indigent survey (mail survey tool), 2,515 total respondents

Estimated Time Per Respondent: 30 minutes—mail survey, 10 minutes—non-respondent survey, 23 minutes—telephone survey, 5 minutes—unbanked postcard survey, 60 minutes—indigent survey

Estimated Total Annual Burden: 1,137 hours.

Request for Comments: Comments submitted in response to this notice will be summarized and/or included in the request for OMB approval. All comments will become a matter of public record. Comments are invited on (a) whether the collection of information is necessary for the proper performance of the functions of the agency, including whether the information shall have practical utility; (b) the accuracy of the agency's estimate of the burden of the collection of information; (c) ways to enhance the quality, utility and clarity of the information to be collected; (d) ways to minimize the burden of the collection of information on respondents, including through the use of automated collection techniques or other forms of information technology; and (e) estimates of capital or start-up costs and costs of operation, maintenance, and purchase of services to provide information.

Dated: June 26, 2003.
Bettsy H. Lane,
Assistant Commissioner, Federal Finance.

[FR Doc. 03-16650 Filed 7-1-03; 8:45 am]

BILLING CODE 4810-35-M